DEPARTMENT OF AGRICULTURE

Natural Resources Conservation Service

[Docket No. NRCS-2023-0001]

Notice of Intent To Prepare an Environmental Impact Statement for the Wood River Watershed, Custer County, Dawson County, Buffalo County, Hall County, and Merrick County, Nebraska

AGENCY: Natural Resources Conservation Service, USDA.

ACTION: Notice of intent to prepare an environmental impact statement (EIS).

SUMMARY: The Natural Resources Conservation Service (NRCS) Nebraska State Office announces its intent to prepare an EIS for the Wood River Watershed Project in the proximity of Oconto, Nebraska, downstream to Grand Island, Nebraska. The EIS process will examine the potential impacts of alternative solutions to reduce flood risk and damages caused by flooding to the communities and agricultural lands throughout the watershed. NRCS is requesting comments to identify significant issues, potential alternatives, information, and analyses relevant to the proposed action from all interested individuals, Federal and State agencies, and Tribes.

DATES: We will consider comments that we receive by March 13, 2023. Comments received after the close of the comment period will be considered to the extent possible.

ADDRESSES: We invite you to submit comments in response to this notice. You may submit your comments through one of the methods below:

• Federal eRulemaking Portal: Go to http://www.regulations.gov and search for docket ID NRCS-2023-0001. Follow the online instructions for submitting comments; or

• Mail or Hand Delivery: John Petersen, Project Manager, JEO Consulting Group, 11213 Davenport Street, Ste. 200, Omaha, NE 68154. For written comments, specify the docket ID NRCS-2023-0001.

All comments received will be posted without change and made publicly available on www.regulations.gov.

FOR FURTHER INFORMATION CONTACT: Contact Britt Weiser, telephone: (402) 437-4116; email: Britt.Weiser@usda.gov, for information regarding general NRCS policy; or John Petersen, telephone: (402) 392-9923, email: jpetersen@jeo.com for information specific to the Wood River Watershed Project; or visit the project website at: https://tinyurl.com/3k6ukz7w.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose for watershed planning and preparation of this EIS is to provide flood prevention or flood risk reduction measures to the communities and agricultural lands in the Wood River Watershed located in the jurisdiction of the Central Platte Natural Resources District (CPNRD) across portions of Custer, Dawson, Buffalo, Hall, and Merrick Counties in south-central Nebraska. The purposes of watershed planning are authorized by the Watershed Protection and Flood Prevention Act of 1954, (Pub. L. 83-566) as amended, and the Flood Control Act of 1944 (Pub. L. 78-534).

Action is needed because areas of the Wood River Watershed have experienced repeated and damaging flooding, including major floods in 1967, 2005, and 2019. The Wood River Watershed experiences both flash and riverine floods from the Wood River and various tributaries. Flood damages are exacerbated by the high groundwater table in the region. Outside of the Wood River Watershed's communities, the majority of land is used for row-crop agriculture. Flood damages to cropland and pasture occur due to inundation, sediment deposition, scour, and erosion.

The earliest recorded flood impacted the watershed in 1883, and recurring floods have been reported throughout the 1940s to present day. The most extensive flood event occurred in 1967 when the Wood River overflowed its banks following a rainfall of over 10 inches. The Wood River inundated the City of Grand Island, killing three people and damaging approximately 1,800 buildings. In 2004 a levee and diversion channel were constructed to protect the City of Grand Island from high flows in the Wood River. This system was put to the test in 2005 when it successfully protected the City of Grand Island.

In 2005 a severe thunderstorm dropped 11 inches of rain near the City of Wood River, resulting in a flash flood and the evacuation of a dozen homes. It was estimated that every structure in the City of Wood River sustained some sort of storm or flood damage following the event. In total, the 2005 flash flood caused $10 million in damages.

The Wood River Watershed experienced severe flooding in 2019 during a bomb cyclone event in March, and then later flooding in July. In the City of Wood River, more than 350 homes were flooded in March 2019, with almost 60 of those having some sort of structural damage. In the City of Gibbon, the Wood River crested at a record high of 17.4 feet on March 14, 2019. This resulted in much of Gibbon being flooded both north and south of Highway 30.

Preliminary Proposed Action and Alternatives

The proposed action may include a variety of measures that will meet the purpose and need of reducing flood risk and damages to the Wood River Watershed. These measures may be both structural and non-structural, including channel widening, construction of diversion channels, construction of levees, construction of detention cells, stream restoration and construction of wetlands, installation of upland conservation measures, construction of dams, property acquisition and demolition, property relocation, floodproofing of structures, floodplain regulation and zoning, and interior drainage or storm sewer system improvements.

The EIS objective is to formulate and evaluate alternatives for flood prevention or flood damage reduction in the Wood River Watershed. Preliminary investigation has determined that one or a combination of the following alternatives are the most likely to be effective and should be considered for further evaluation:

Proposed Action Alternative 1: Diversion Channel

This alternative involves the construction of a new diversion channel combined with berms to intercept and re-route high flows from the Wood River south to the Platte River. West of Gibbon, there is a location where the Wood River meanders nearly adjacent to Highway 30. This would be an optimum location to divert flood waters to the south, underneath Interstate 80, and into the Platte River. A diversion channel of this size would entail excavating a new, properly sized channel approximately 20,000 feet in length and lined on both sides by berms to retain flows within the channel. The diversion channel would need to cross Highway 30, the Union Pacific Railroad, and both the eastbound and westbound lanes of Interstate 80, to reach the Platte River. This alternative would be effective at reducing flood risk for Gibbon and all other downstream communities impacted by the Wood River.

Proposed Action Alternative 2: Levees

A levee running adjacent and through the north end of Gibbon directly south of the Wood River would potentially protect the community from flood waters overflowing the southern bank of the Wood River. The levee would need to be approximately 7,200 feet long and tie into the Highway 30 embankment on both sides of Gibbon. Depending on the level of protection, the levee would range from approximately 5 to 10 feet tall. Currently, the levee is sized to protect Gibbon from the 50-year event. A higher level of protection is possible, but would require raising the Highway 30 grade where the levee ties in. A closure section between the Union Pacific Railroad and Highway 30 embankment might also be needed to keep water from flowing in the ditch. Constructing a levee along the north side of Gibbon between existing housing structures and the industrial processing facility would be challenging. It would require property acquisition and demolition. The final footprint of the levee can be adjusted based on real estate or property issues.

A levee on the north side of Wood River would protect the city from flooding up a selected level of design. Currently, the proposed Wood River north levee will protect the city from a 50-year event. This levee would be 8 to 10 feet tall and tie into the Highway 30 embankment. The level of protection is limited by the elevation of the Highway. Adding a grade raise to the highway where the levee ties in or continuing the levee south of the Highway could potentially increase the level of projection up the 100-year flood event. Further analysis and modeling are needed to properly locate and size this levee.

Proposed Action Alternative 3: Detention Cells

This alternative includes surface storage located south of the City of Wood River and Highway 30. The subbasins to the south of Highway 30 flood primarily agricultural land with shallow overland flow. These flows eventually combine with the main channel of the Wood River south of Alda. These subbasin flows contribute to some shallow flooding along the entire southern extent of the Lower Wood River Watershed. There is ample room for detention storage south of Wood River, just north of Interstate 80. This would lower peak flows when the main channel combines near Alda and provide flooding relief for agricultural lands. It is possible to lower the level of protection by reducing storage, which could dramatically reduce construction costs. Optimizing the size and locations of this alternative to determine optimum economic benefit needs to be performed. This includes determining if this option is beneficial with different combinations, and the optimal location and configuration of a detention cell along with flow paths. The detention cell would also have the potential for environmental benefits, such as habitat for threatened and endangered species.

Proposed Action Alternative 4: Single Dam or Multiple Dams

This alternative consists of constructing one large dam or multiple dams in the Upper and Lower Wood River Watersheds along contributing subbasins to retain floodwaters and reduce flood risk in the downstream communities.

Summary of Expected Impacts

Early agency scoping of this federally assisted action indicates that proposed alternatives may have significant local, regional, or national impacts on the environment. Potential impacts include wetland and flood plain alteration due to the construction of these proposed alternatives. Potential realignment or raising of roads and railroads could occur, depending on the location of the proposed alternatives. The levees would impact several dozen property owners and businesses. The proposed action would reduce flood damage to structures and infrastructure in Gibbon and Wood River. Other actions, like the detention cells, may improve wildlife habitat.

NRCS will coordinate with other federal agencies throughout the planning process to ensure the proper measures are being taken to avoid and minimize impacts before considering mitigation. Conservation measures will be considered to avoid and minimize environmental impacts by implementing best management practices.

Anticipated Permits and Authorizations

The following permits and other authorizations are anticipated to be required:

• Clean Water Act (CWA) Section 404 Permit: Proposed Action may require permit from the U.S. Army Corps of Engineers;

• CWA Section 402 Permit: Project may require National Pollutant Discharge Elimination System Permit; and

• Dam Safety and Floodplain Permits: Local dam safety and floodplain permits may be required depending on the final alternatives selected.

Schedule of Decision-Making Process

A Draft EIS (DEIS) will be prepared and circulated for review and comment by agencies, Tribes, consulting parties, and the public as required by 40 CFR 1503.1, 1502.20, 1506.11, 1502.17, and 7 CFR 650.13. DEIS is anticipated to be complete and available for public review within 18 months of publication of this document. Once DEIS is completed, a Notice of Availability (NOA) will be published in the Federal Register and a public review period of 45 days will be provided. Comments on DEIS will be addressed in the Final EIS. A subsequent NOA will be published in the Federal Register indicating the availability of the Final EIS. A Final EIS is anticipated to be published within 5 months of completion of the public comment period for the DEIS. After a 30-day review period, the Record of Decision (ROD) will be signed by the decision maker and responsible federal official for the project, the NRCS Nebraska State Conservationist, Mr. Robert Lawson. The ROD will be made available to the public. Based on the analysis, NRCS will decide whether to provide financial assistance to the CPNRD to implement the preferred alternative identified in the Final EIS.

Public Scoping Process

An initial public scoping meeting was held virtually via Microsoft Teams on August 18, 2020, to present the project and develop the scope of the draft environmental assessment. Scoping meeting presentation materials, including a video recording of the meeting, is available on the project website, along with project background information: https://tinyurl.com/3k6ukz7w.

This meeting involved a project presentation followed by a group question-and-answer period. Project team members were available for discussion of individual questions. Scoping provides the ability for the public to provide input on the kinds of issues that should be addressed, what alternatives should be considered, impacts and additional research that should be considered, and any actions that could be related to the project.

A second public meeting will be conducted after DEIS is completed. Comments received, including the names and addresses of those who comment, will be part of the public record. The date, time, and locations of future scoping meetings will be announced on the project website, the sponsor's website, Nebraska NRCS social media, and published in the local newspaper.

Identification of Potential Alternatives, Information, and Analyses

NRCS invites agencies, Tribes, consulting parties, and individuals who have special expertise, legal jurisdiction, or interest in the Wood River Watershed Project to provide comments concerning the scope of the analysis and identification of relevant information and studies. All interested parties are invited to provide input related to the identification of potential alternatives, information, and analyses relevant to the Proposed Action in writing or during a public scoping meeting.

NRCS will coordinate the scoping process to correspond with any required National Historic Preservation Act (NHPA) processes, as allowed in 36 CFR 800.2(d)(3) and 800.8 (54 U.S.C. 306108). The information about historic and cultural resources within the area potentially affected by the proposed project will assist NRCS in identifying and evaluating impacts to such resources in the context of both National Environmental Policy Act (NEPA) and NHPA.

NRCS will consult with Native American tribes on a government-to-government basis in accordance with 36 CFR 800.2 and 800.3, Executive Order 13175, and other policies. Tribal concerns, including impacts on Indian trust assets and potential impacts to cultural resources and historic properties, will be given due consideration.

Authorities

This document is published as required by the NEPA regulations regarding publication of a notice of intent to issue an environmental impact statement (40 CFR 1501.9(d)). This EIS will be prepared to evaluate potential environmental impacts as required by NEPA section 102(2)(C); the Council on Environmental Quality regulations (40 CFR parts 1500-1508); and NRCS regulations that implement NEPA in 7 CFR part 650. Watershed planning is authorized under the Watershed Protection and Flood Prevention Act of 1954, as amended, (Pub. L. 83-566) and the Flood Control Act of 1944 (Pub. L. 78-534).

Federal Assistance Programs

The title and number of the Federal assistance program in the Catalog of Federal Domestic Assistance to which this Notice of Funding Availability applies is 10.904 Watershed Protection and Flood Prevention.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This program is subject to the provisions of Executive Order 12372, which requires intergovernmental consultation with State and local officials.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and TTY) or dial 711 for Telecommunicaions Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to U.S. Department of Agriculture, Office of the Assistant Secretary for Civil Rights, 1400 Independence Avenue SW, Washington, DC 20250-9410, or email: OAC@usda.gov. USDA is an equal opportunity provider, employer, and lender.

Robert D. Lawson,
Nebraska State Conservationist, Natural Resources Conservation Service.

[FR Doc. 2023-02779 Filed 2-8-23; 8:45 am]

BILLING CODE 3410-16-P